DEPARTMENT OF COMMERCE

Foreign-Trade Zones Board

[B-12-2023]

Foreign-Trade Zone (FTZ) 81—Portsmouth, New Hampshire; Notification of Proposed Production Activity; CAN-ONE (USA), INC. (Aluminum Beverage Cans), Nashua, New Hampshire

CAN-ONE (USA), INC. submitted a notification of proposed production activity to the FTZ Board (the Board) for its facility in Nashua, New Hampshire, within Subzone 81F. The notification conforming to the requirements of the Board's regulations (15 CFR 400.22) was received on January 19, 2023.

Pursuant to 15 CFR 400.14(b), FTZ production activity would be limited to the specific foreign-status material(s)/component(s) and specific finished product(s) described in the submitted notification (summarized below) and subsequently authorized by the Board. The benefits that may stem from conducting production activity under FTZ procedures are explained in the background section of the Board's website—accessible via www.trade.gov/ftz.

The proposed finished product is aluminum beverage cans (duty rate is 5.7%).

The proposed foreign-status materials and components include various aluminum components (coils; can ends; can lids; uncoated sheets; coated sheets); tin-plated steel in sheets; and, flat-rolled steel plated with tin (duty rate ranges from duty-free to 6.5%). The request indicates that certain materials/components are subject to duties under Section 232 of the Trade Expansion Act of 1962 (Section 232) or Section 301 of the Trade Act of 1974 (Section 301), depending on the country of origin. The applicable Section 232 and Section 301 decisions require subject merchandise to be admitted to FTZs in privileged foreign status (19 CFR 146.41).

Public comment is invited from interested parties. Submissions shall be addressed to the Board's Executive Secretary and sent to: ftz@trade.gov. The closing period for their receipt is March 22, 2023.

A copy of the notification will be available for public inspection in the “Online FTZ Information System” section of the Board's website.

For further information, contact Juanita Chen at juanita.chen@trade.gov.

Dated: February 6, 2023.
Elizabeth Whiteman,
Acting Executive Secretary.

[FR Doc. 2023-02818 Filed 2-9-23; 8:45 am]

BILLING CODE 3510-DS-P